ENVIRONMENTAL PROTECTION AGENCY

40 CFR Part 52

[EPA-R05-OAR-2007-0183; FRL-8535-1]

Approval and Promulgation of Air Quality Implementation Plans; Illinois; Revisions to Emission Reduction Market System

AGENCY: Environmental Protection Agency (EPA).

ACTION: Withdrawal of direct final rule.

SUMMARY: EPA is withdrawing the January 30, 2008 (73 FR 5435), direct final rule approving revisions to the State of Illinois' rules for its Emission Reduction Market System (ERMS).

In the direct final rule, EPA commented on statements in and implications of a memorandum from Robert Meyers, Principal Deputy Assistant Administrator for Air and Radiation, to EPA's Regional Administrators dated October 3, 2007. (The rule gave an incorrect date of October 7, 2007.) The memorandum addresses the status of new source review criteria for ozone nonattainment areas based on a decision by the Court of Appeals for the DC Circuit in the case of South Coast Air Quality Management Dist. v. EPA, 472 F.3d 882 (DC Cir. 2006).

In commenting upon the memorandum of Robert Meyers in the direct final rule of January 30, 2008, Region 5 unintentionally addressed an issue of national policy. As the issue is one of national policy, the implications of the Court ruling should only be addressed in national guidance and rulemaking. Notwithstanding our observations regarding the implications of the Robert Meyers memorandum, the rationale for proposing to approve the ERMS rule revisions did not rely on these observations, and so the soundness of EPA's proposal is not affected. Therefore, EPA is withdrawing the January 30, 2008, direct final rule, but announcing today that the associated proposed rule will stand as a proposed rule. (See 73 FR 5471). Comments on the proposed rule continue to be due on February 29, 2008. EPA will publish a revised final rule after considering any comments that it may receive. EPA will not institute a second comment period on this action.

DATES: The direct final rule published at 73 FR 5435 on January 30, 2008, is withdrawn as of February 29, 2008. Comments on the proposed rule published at 73 FR 5471 on January 30, 2008, remain due on February 29, 2008.

FOR FURTHER INFORMATION CONTACT: John Summerhays, Environmental Scientist, Criteria Pollutant Section, Air Programs Branch (AR-18J), Environmental Protection Agency, Region 5, 77 West Jackson Boulevard, Chicago, Illinois 60604, (312) 886-6067, summerhays.john@epa.gov.

List of Subjects in 40 CFR Part 52

Environmental protection, Air pollution control, Incorporation by reference, Intergovernmental relations, Ozone, Reporting and recordkeeping requirements, Volatile organic compounds.

Authority: 42 U.S.C. 7401 et seq.

Dated: February 21, 2008.
Bharat Mathur,
Acting Regional Administrator, Region 5.

Accordingly, the amendments to 40 CFR 52.720 which published in the Federal Register on January 30, 2008 (72 FR 5435) on page 5439 are withdrawn as of February 29, 2008.

[FR Doc. E8-3800 Filed 2-28-08; 8:45 am]

BILLING CODE 6560-50-P